NATIONAL FOUNDATION ON THE ARTS AND THE HUMANITIES

National Endowment for the Arts; Arts Advisory Panel

Pursuant to Section 10(a)(2) of the Federal Advisory Committee Act (Pub. L. 92-463), as amended, notice is hereby given that eight meetings of the Arts Advisory Panel to the National Council on the Arts will be held at the Nancy Hanks Center, 1100 Pennsylvania Avenue, NW., Washington, DC 20506 as follows:

Music (application review A): November 7-10, 2005 in Room 714. A portion of this meeting, from 3:15 p.m. to 4 p.m. on Thursday, November 10th, will be open to the public for policy discussion. The remainder of the meeting, from 9 a.m. to 6 p.m. on November 7th through 9th, and from 9 a.m. to 3:15 p.m. and from 4 p.m. to 4:30 p.m. on November 10th, will be closed.

Presenting (application review A): November 14-16, 2005 in Room 716. This meeting, from 9 a.m. to 6 p.m. on November 14th and 15th, and from 9 a.m. to 4:45 p.m. on November 16th, will be closed.

Theater (application review A): November 15-18, 2005 in Room 714. A portion of this meeting, from 3 p.m. to 4:30 p.m. on Thursday, November 17th, will be open to the public for policy discussion. The remainder of the meeting, from 9:30 a.m. to 6:30 p.m. on November 15th and 16th, from 9:30 a.m. to 3 p.m. and 4:30 p.m. to 6:30 p.m. on November 17th, and from 9 a.m. to 4:15 p.m. on November 18th, will be closed.

Theater (application review B): November 18, 2005 in Room 714. This meeting, from 4:15 p.m. to 5 p.m., will be closed.

Presenting (application review B): November 17-18, 2005 in Room 716. This meeting, from 9 a.m. to 5:30 p.m. on November 17th and from 9 a.m. to 1:45 p.m. on November 18th, will be closed.

Folk & Traditional Arts (application review): November 29-December 2, 2005 in Room 716. A portion of this meeting, from 1:30 p.m. to 2:30 p.m. on Friday, December 2nd, will be open to the public for policy discussion. The remainder of the meeting, from 9 a.m. to 6:30 p.m. on November 29th through December 1st, and from 9 a.m. to 1:30 p.m. and from 2:30 p.m. to 4:30 p.m. on December 2nd, will be closed.

Local Arts Agencies (application review): November 29-30, 2005 in Room 730. This meeting, from 9 a.m. to 5:30 p.m. on November 29th and from 9 a.m. to 3 p.m. on November 30th, will be closed.

Music (application review B): November 29-30, 2005 in Room 714. A portion of this meeting, from 4:45 p.m. to 5:15 p.m. on Wednesday, November 30th, will be open to the public for policy discussion. The remainder of the meeting, from 9 a.m. to 6 p.m. on November 29th and from 9 a.m. to 4:45 p.m. and from 5:15 p.m. to 5:45 p.m. on November 30th, will be closed.

The closed portions of meetings are for the purpose of Panel review, discussion, evaluation, and recommendations on financial assistance under the National Foundation on the Arts and the Humanities Act of 1965, as amended, including information given in confidence to the agency. In accordance with the determination of the Chairman of April 8, 2005, these sessions will be closed to the public pursuant to subsection (c)(6) of section 552b of Title 5, United States Code.

Any person may observe meetings, or portions thereof, of advisory panels that are open to the public, and if time allows, may be permitted to participate in the panel's discussions at the discretion of the panel chairman. If you need special accommodations due to a disability, please contact the Office of AccessAbility, National Endowment for the Arts, 1100 Pennsylvania Avenue, NW., Washington, DC 20506, 202/682-5532, TDY-TDD 202/682-5496, at least seven (7) days prior to the meeting.

Further information with reference to these meetings can be obtained from Ms. Kathy Plowitz-Worden, Office of Guidelines & Panel Operations, National Endowment for the Arts, Washington, DC 20506, or call 202/682-5691.

Dated: October 18, 2005.
Kathy Plowitz-Worden,
Panel Coordinator, Panel Operations, National Endowment for the Arts.

[FR Doc. 05-21160 Filed 10-21-05; 8:45 am]

BILLING CODE 7537-01-P